DEPARTMENT OF COMMERCE

Economic Development Administration

Notice of Petitions by Producing Firms for Determination of Eligibility To Apply for Trade Adjustment Assistance

AGENCY: Economic Development Administration (EDA), Commerce.

ACTION: To give all interested parties an opportunity to comment. Petitions have been accepted for filing on the dates indicated from the firms listed below.

List of Petition Action By Trade Adjustment Assistance for Period December 21, 2001—January 15, 2002
Firm name | Address | Date petition accepted | Product
ASI Technologies, Inc | 405 Caaredean Dr. Horsham, PA 19044 | 12/21/01 | Acid free uncoated paper sheets.
Pulp and Paper of America, L.L.C | 650 Main Street Berlin, NH 035570 | 12/26/01 | Gear drives used in the health care industry for wheel chairs and scooters.
Jananna Foods, Inc | 1900 East Highway 31 Kilgore, TX 75663 | 12/27/01 | Salsa.
Beehler Corporation | 1401 Industrial Park Drive Mountain Grove, MO 65711 | 12/28/01 | Metal hardware, steel luggage clasps, hinges and case brackets.
Claude Howard Lumber Co., Inc | 600 Park Avenue Statesboro, GA 30459 | 01/02/02 | Lumber.
Dlugosh Store Fixtures, Inc | 900 Aladdin Avenue San Leandro, CA 94577 | 01/02/02 | Custom store fixtures.
DiCicco Nurseries, Inc. d.b.a. Watsonville Nurseries | 110 Whiting Road Watsonville, CA 95076 | 01/02/02 | Roses.
Hollywood Plastics Engineering Company | 620 Arroyo Avenue San Fernando, CA 91340 | 01/02/02 | Plastic injection molding of precision parts, i.e., hypodermic syringes and specially knives.
Rigidized Metals Corporation | 658 Ohio Street Buffalo, NY 14203 | 01/15/02 | Textures metal sheets.
Dinosaw, Inc | 340 Hudson Avenue Hudson, NY 12534 | 01/15/02 | Cutting tools servicing the wood, plastic and metal cutting industries.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: January 18, 2002.
Anthony J. Meyer,
Coordinator, Trade Adjustment and Technical Assistance.

[FR Doc. 02-2085 Filed 1-28-02; 8:45 am]

BILLING CODE 3510-24-P